DEPARTMENT OF ENERGY

Federal Energy Regulatory Commission

Combined Notice of Filings #1

Take notice that the Commission received the following electric corporate filings:

Docket Numbers: EC11-41-000.

Applicants: Varde Partners, L.P., Varde Management, L.P., Varde Management International, L.P., Granite Ridge Energy, LLC.

Description: Application of Granite Ridge Energy, LLC et al. for Order Authorizing Disposition of Jurisdictional Facilities Under Section 203 of the FPA and Request for Waivers and Expedited Action.

Filed Date: 02/08/2011.

Accession Number: 20110208-5031.

Comment Date: 5 p.m. Eastern Time on Tuesday, March 01, 2011.

Take notice that the Commission received the following exempt wholesale generator filings:

Docket Numbers: EG11-53-000.

Applicants: Avenal Park LLC.

Description: Avenal Park LLC Notice of Self-Certification as an Exempt Wholesale Generator.

Filed Date: 02/08/2011.

Accession Number: 20110208-5086.

Comment Date: 5 p.m. Eastern Time on Tuesday, March 01, 2011.

Docket Numbers: EG11-54-000.

Applicants: Sand Drag LLC.

Description: Sand Drag LLC Notice of Self Certification as an Exempt Wholesale Generator Request.

Filed Date: 02/08/2011.

Accession Number: 20110208-5087.

Comment Date: 5 p.m. Eastern Time on Tuesday, March 01, 2011.

Docket Numbers: EG11-55-000.

Applicants: Sun City Project LLC.

Description: Sun City Project LLC's Notice of Self Certification of Exempt Wholesale Generator Request.

Filed Date: 02/08/2011.

Accession Number: 20110208-5089.

Comment Date: 5 p.m. Eastern Time on Tuesday, March 01, 2011.

Take notice that the Commission received the following electric rate filings:

Docket Numbers: ER98-2259-007.

Applicants: LSP Energy Limited Partnership.

Description: Notice of Change in Status of LSP Energy Limited Partnership.

Filed Date: 02/07/2011.

Accession Number: 20110207-5129.

Comment Date: 5 p.m. Eastern Time on Monday, February 28, 2011.

Docket Numbers: ER08-1111-008; ER08-1225-010; ER08-1226-007.

Applicants: Cloud County Wind Farm, LLC, Pioneer Prairie Wind Farm I, LLC, Arlington Wind Power Project LLC.

Description: Supplement to Notice of Non-Material Change in Status of Arlington Wind Power Project LLC, et al.

Filed Date: 02/07/2011.

Accession Number: 20110207-5134.

Comment Date: 5 p.m. Eastern Time on Monday, February 28, 2011.

Docket Numbers: ER10-1151-003.

Applicants: AmerenEnergy Resources Generating Company.

Description: AmerenEnergy Resources Generating Company submits tariff filing per 35: Baseline Compliance Filing Schedule 3 Sections 3, 4 and 5 to be effective 5/3/2010.

Filed Date: 02/08/2011.

Accession Number: 20110208-5094.

Comment Date: 5 p.m. Eastern Time on Tuesday, March 01, 2011.

Docket Numbers: ER10-1786-001.

Applicants: Credit Suisse Energy, LLC.

Description: Notice of Non-Material Change in Status of Credit Suisse Energy LLC.

Filed Date: 02/07/2011.

Accession Number: 20110207-5128.

Comment Date: 5 p.m. Eastern Time on Monday, February 28, 2011.

Docket Numbers: ER10-1809-002.

Applicants: RED-Scotia, LLC.

Description: Notification of Change in Facts Under Market-Based Rate Authority of RED-Scotia, LLC.

Filed Date: 02/04/2011.

Accession Number: 20110204-5154.

Comment Date: 5 p.m. Eastern Time on Friday, February 25, 2011.

Docket Numbers: ER11-2410-001.

Applicants: Hinson Power Company, LLC.

Description: Hinson Power Company, LLC submits tariff filing per 35: Compliance filing to request for Category 1 seller status to be effective 12/21/2010.

Filed Date: 01/20/2011.

Accession Number: 20110120-5103.

Comment Date: 5 p.m. Eastern Time on Thursday, February 10, 2011.

Docket Numbers: ER11-2568-001.

Applicants: Southern California Edison Company.

Description: Southern California Edison Company submits tariff filing per 35.17(b): Resubmission of Amended LGIA Mountain View IV Project to be effective 2/28/2011.

Filed Date: 02/08/2011.

Accession Number: 20110208-5045.

Comment Date: 5 p.m. Eastern Time on Tuesday, March 01, 2011.

Docket Numbers: ER11-2598-001; ER11-2607-001; ER11-2612-001.

Applicants: Sempra Energy Trading LLC, MxEnergy Electric Inc., Gateway Energy Services Corporation.

Description: Supplemental to Notice of Category 1 Seller Status of Sempra Energy Trading LLC, et al.

Filed Date: 02/04/2011.

Accession Number: 20110204-5138.

Comment Date: 5 p.m. Eastern Time on Friday, February 25, 2011.

Docket Numbers: ER11-2735-001.

Applicants: Censtar Energy Corp.

Description: Censtar Energy Corp. submits tariff filing per 35: Compliance filing for MBR Baseline to be effective 3/28/2011.

Filed Date: 02/08/2011.

Accession Number: 20110208-5061.

Comment Date: 5 p.m. Eastern Time on Tuesday, March 01, 2011.

Docket Numbers: ER11-2754-001.

Applicants: AP Gas & Electric (TX), LLC.

Description: AP Gas & Electric (TX), LLC submits tariff filing per 35.17(b): Amendment to Petition to be effective 2/25/2011.

Filed Date: 02/08/2011.

Accession Number: 20110208-5059.

Comment Date: 5 p.m. Eastern Time on Tuesday, March 01, 2011.

Docket Numbers: ER11-2845-000.

Applicants: Puget Sound Energy, Inc.

Description: Puget Sound Energy, Inc. submits tariff filing per 35: Operational Support Program Agreement 02082011 to be effective 2/8/2011.

Filed Date: 02/08/2011.

Accession Number: 20110208-5000.

Comment Date: 5 p.m. Eastern Time on Tuesday, March 01, 2011.

Docket Numbers: ER11-2845-000.

Applicants: Puget Sound Energy, Inc.

Description: Puget Sound Energy, Inc. submits tariff filing per 35: Operational Support Program Agreement 02082011 to be effective 2/8/2011.

Filed Date: 02/08/2011.

Accession Number: 20110208-5000.

Comment Date: 5 p.m. Eastern Time on Tuesday, March 01, 2011.

Docket Numbers: ER11-2846-000.

Applicants: ISO New England Inc., New England Power Pool Participants Committee.

Description: ISO New England Inc. submits tariff filing per 35.13(a)(2)(iii: Timing of Monthly Inv. for Non-Hourly Chges to be effective 5/1/2011.

Filed Date: 02/08/2011.

Accession Number: 20110208-5011.

Comment Date: 5 p.m. Eastern Time on Tuesday, March 01, 2011.

Docket Numbers: ER11-2847-000.

Applicants: Southern California Edison Company.

Description: Southern California Edison Company submits tariff filing per 35.13(a)(2)(iii: Letter Agreement for Solar Partners' DPT1 Network Upgrades to be effective 11/18/2010.

Filed Date: 02/08/2011.

Accession Number: 20110208-5062.

Comment Date: 5 p.m. Eastern Time on Tuesday, March 01, 2011.

Docket Numbers: ER11-2848-000.

Applicants: Arizona Public Service Company.

Description: Arizona Public Service Company submits tariff filing per 35.13(a)(2)(iii: Amendment to Service Agreement No. 174 to be effective 11/19/2010.

Filed Date: 02/08/2011.

Accession Number: 20110208-5063.

Comment Date: 5 p.m. Eastern Time on Tuesday, March 01, 2011.

Docket Numbers: ER11-2849-000.

Applicants: Public Service Company of New Mexico.

Description: Public Service Company of New Mexico submits tariff filing per 35.12: PNM SA No. 365 Gestamp PtP Transmission Service to be effective 1/12/2011.

Filed Date: 02/08/2011.

Accession Number: 20110208-5079.

Comment Date: 5 p.m. Eastern Time on Tuesday, March 01, 2011.

Docket Numbers: ER11-2850-000.

Applicants: PJM Interconnection, L.L.C.

Description: PJM Interconnection, L.L.C. submits tariff filing per 35.13(a)(2)(iii: WMPA No. 2719, Queue No. V3-005, SEP and JCP&L to be effective 1/11/2011.

Filed Date: 02/08/2011.

Accession Number: 20110208-5091.

Comment Date: 5 p.m. Eastern Time on Tuesday, March 01, 2011.

Docket Numbers: ER11-2851-000.

Applicants: Public Service Company of New Mexico.

Description: Public Service Company of New Mexico submits tariff filing per 35.12: OATT Service Agreement No. 366 to be effective 1/12/2011.

Filed Date: 02/08/2011.

Accession Number: 20110208-5105.

Comment Date: 5 p.m. Eastern Time on Tuesday, March 01, 2011.

Docket Numbers: ER11-2852-000.

Applicants: Public Service Company of New Mexico.

Description: Public Service Company of New Mexico submits tariff filing per 35.12: OATT Service Agreement No. 367 to be effective 1/12/2011.

Filed Date: 02/08/2011.

Accession Number: 20110208-5115.

Comment Date: 5 p.m. Eastern Time on Tuesday, March 01, 2011.

Docket Numbers: ER11-2853-000.

Applicants: Public Service Company of Colorado.

Description: Public Service Company of Colorado submits tariff filing per 35.13(a)(1): 20110208_PSCoWholesaleRateCase to be effective 4/10/2011.

Filed Date: 02/08/2011.

Accession Number: 20110208-5134.

Comment Date: 5 p.m. Eastern Time on Tuesday, March 01, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Dated: February 8, 2011.
Nathaniel J. Davis, Sr.,
Deputy Secretary.

[FR Doc. 2011-3453 Filed 2-15-11; 8:45 am]

BILLING CODE 6717-01-P